INTERNATIONAL TRADE COMMISSION

[Investigation No. 337-TA-892]

Certain Point-To-Point Network Communication Devices and Products Containing the Same; Commission Decision Not To Review an Initial Determination Terminating the Investigation in Its Entirety; Termination of the Investigation

AGENCY: U.S. International Trade Commission.

ACTION: Notice.

SUMMARY: Notice is hereby given that the U.S. International Trade Commission has determined not to review the presiding administrative law judge's (“ALJ”) initial determination (“ID”) (Order No. 37) terminating the investigation in its entirety.

FOR FURTHER INFORMATION CONTACT: Robert Needham, Office of the General Counsel, U.S. International Trade Commission, 500 E Street SW., Washington, DC 20436, telephone (202) 708-5468. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on September 9, 2013, based on a complaint filed by Straight Path IP Group, Inc., of Glen Allen, Virginia (“Straight Path”). 78 FR 55096-97 (Sept. 9, 2013). The complaint alleged violations of section 337 of the Tariff Act of 1930, as amended 19 U.S.C. 1337, by reason of the infringement of claims 1-3, 9, 10, 17, and 18 of U.S. Patent No. 6,009,469; claims 1, 11, 12, 19, 22, 23, and 30 of U.S. Patent No. 6,108,704; and claims 6 and 13 of U.S. Patent No. 6,131,121. The notice of institution named as respondents AmTran Logistics, Inc., of Irvine, California; AmTran Technology Co., Ltd., of New Taipei City, Taiwan; LG Electronics, Inc., of Seoul, Republic of Korea; LG Electronics U.S.A., Inc., of Englewood Cliffs, New Jersey; LG Electronics MobileComm U.S.A., Inc., of San Diego, California; Panasonic Corporation of Osaka, Japan; Panasonic Corporation of North America of Secaucus, New Jersey; Sharp Corporation, of Osaka, Japan; Sharp Electronics Corporation of Mahwah, New Jersey; Sony Computer Entertainment, Inc., of Tokyo, Japan; Sony Computer Entertainment America Inc., of Foster City, California; Sony Computer Entertainment America LLC, of Foster City, California; Sony Corporation of Tokyo, Japan; Sony Corporation of America, of New York, New York; Sony Electronics Inc., of San Diego, California; Sony Mobile Communications AB, of Lund, Sweden; Sony Mobile Communications (USA) Inc., of Research Triangle Park, North Carolina; Sony Ericsson Mobile Communications, (USA) Inc., of Atlanta, Georgia; Toshiba Corporation of Tokyo, Japan; Toshiba America Inc., of New York, New York; Toshiba America Information Systems, Inc., of Irvine, California; and Vizio, Inc., of Irvine, California. Id. at 55097.

On September 23, 2013, the ALJ granted a motion seeking to amend the complaint to remove respondents Sony Computer Entertainment America, Inc., and Sony Ericsson Mobile Communications (USA) Inc. Order No. 2, not reviewed Nov. 4, 2014. On February 5, 2014, the ALJ terminated the investigation with respect to respondents Sharp Corporation and Sharp Electronics Corporation based on a settlement agreement. Order No. 18, not reviewed February 25, 2014. On May 1, 2014, the ALJ terminated the investigation with respect to respondents Sony Corporation, Sony Computer Entertainment America LLC, Sony Corporation of America, Sony Electronics Inc., Sony Mobile Communications Inc., Sony Mobile Communications AB, and Sony Mobile Communications (USA) Inc. Order No. 34, not reviewed May 27, 2014.

On May 5, 2014, Straight Path filed a motion to terminate the investigation with respect to the remaining respondents based on a withdrawal of the complaint. On May 6, 2014, the Commission Investigative Attorney filed a response supporting the motion. On May 8, 2014, the remaining respondents filed a response indicating that they do not oppose the motion. On May 9, 2014, Straight Path filed a motion for leave to file a reply in support of its motion to terminate the investigation.

On May 13, 2014, the ALJ issued the subject ID granting the motion to terminate the investigation. The ALJ found that the motion complied with the Commission's rules and precedent. The ALJ also granted Straight Path's motion for leave to file a reply.

No petitions for review of the ID were filed. The Commission has determined not to review the ID.

The authority for the Commission's determination is contained in section 337 of the Tariff Act of 1930, as amended (19 U.S.C. 1337), and in Part 210 of the Commission's Rules of Practice and Procedure (19 CFR Part 210).

Issued: June 4, 2014.
By order of the Commission.
Lisa R. Barton,
Secretary to the Commission.

[FR Doc. 2014-13408 Filed 6-9-14; 8:45 am]

BILLING CODE 7020-02-P